DEPARTMENT OF DEFENSE

GENERAL SERVICES ADMINISTRATION

NATIONAL AERONAUTICS AND SPACE ADMINISTRATION

48 CFR Parts 1, 36, and 53

[FAR Case 2002-017]

RIN 9000-AJ73

Federal Acquisition Regulation; Elimination of Standard Form 1417

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to eliminate the use of the Standard Form (SF) 1417.

DATES: Interested parties should submit comments in writing on or before November 17, 2003 to be considered in the formulation of a final rule.

ADDRESSES: Submit written comments to General Services Administration, FAR Secretariat (MVA), 1800 F Street, NW., Room 4035, ATTN: Laurie Duarte, Washington, DC 20405.

Submit electronic comments via the Internet to farcase.2002-017@gsa.gov.

Please submit comments only and cite FAR case 2002-017 in all correspondence related to this case.

FOR FURTHER INFORMATION CONTACT: The FAR Secretariat, Room 4035, GS Building, Washington, DC, 20405, at (202) 501-4755 for information pertaining to status or publication schedules. For clarification of content, contact Ms. Cecelia L. Davis, Procurement Analyst, at (202) 219-0202. Please cite FAR case 2002-017.

SUPPLEMENTARY INFORMATION:

A. Background

This rule amends FAR Subparts 1.1, 36.2, 36.7, 53.2, and 53.3, deleting the prescription for the use of the SF 1417, Pre-Solicitation Notice (Construction Contract). The proposed rule eliminates the use of this form in contracts for construction, alteration, or repair, or dismantling, demolition, or removal of improvements.

The use of the form has become unnecessary because contracting officers are required to provide access to presolicitation notices through the Governmentwide point of entry (GPE) via the Internet at http://www.fedbizopps.gov pursuant to FAR 5.204. The proposed FAR change to eliminate the SF 1417 complements efforts to increase reliance on electronic business practices in procurement in furtherance of the Administration's commitment to create a citizen-centric E-Government, as outlined in the President's Management Agenda.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because the proposed amendments are not imposing any additional burden on small business. Small businesses are already aware of the publicizing medium the Government uses via the Internet and have made the necessary adaptation to keep abreast of business opportunities disseminated therein. The use of electronic commerce/electronic data interchange has become the principal medium for publicizing business opportunities in the Federal Government. An Initial Regulatory Flexibility Analysis has, therefore, not been performed. We invite comments from small businesses and other interested parties.

The Councils will consider comments from small entities concerning the affected FAR parts 1, 36, and 53 in accordance with 5 U.S.C. 610. Interested parties must submit such comments separately and should cite 5 U.S.C. 601, et seq. (FAR case 2002-017), in correspondence.

C. Paperwork Reduction Act

The Paperwork Reduction Act does not apply because the proposed changes to the FAR do not impose information collection requirements that require the approval of the Office of Management and Budget under 44 U.S.C. 3501, et seq.

List of Subjects in 48 CFR Parts 1, 36, and 53

Government procurement.

Dated: September 9, 2003.
Laura Auletta,
Director, Acquisition Policy Division.

Therefore, DoD, GSA, and NASA propose amending 48 CFR parts 1, 36, and 53 as set forth below:

1. The authority citation for 48 CFR parts 1, 36, and 53 is revised to read as follows:

Authority: 40 U.S.C. 121(c); 10 U.S.C. chapter 137; and 42 U.S.C. 2473(c).

PART 1—FEDERAL ACQUISITION REGULATIONS SYSTEM

1.106 [Amended]

2. Amend section 1.106 in the table following the introductory paragraph by removing FAR segment “SF 1417” and its corresponding OMB Control Number “9000-0037”.

PART 36—CONSTRUCTION AND ARCHITECT-ENGINEER CONTRACTS

36.213-2 [Amended]

3. Amend section 36.213-2 in the first sentence of paragraph (a) by removing “send” and adding “issue” in its place, and removing “to prospective bidders”; and in paragraph (b) by removing paragraph (b)(6) and redesignating paragraphs (b)(7), (b)(8), and (b)(9) as (b)(6), (b)(7), and (b)(8), respectively.

36.701 [Amended]

4. Amend section 36.701 by removing paragraph (a) and redesignating paragraphs (b), (c), (d), and (e) as (a), (b), (c), and (d), respectively.

PART 53—FORMS

53.236-1 [Amended]

5. Amend section 53.236-1 by removing paragraph (a) and redesignating paragraphs (b), (c), (d), (e), (f), and (g) as (a), (b), (c), (d), (e), and (f), respectively.

53.301-1417 [Removed]

6. Remove section 53.301-1417.

[FR Doc. 03-23531 Filed 9-15-03; 8:45 am]

BILLING CODE 6820-EP-P